DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of the latest forms of automated collection techniques or other forms of information technology.

Proposed Project: 2001 National Household Survey on Drug Abuse—(0930-0110, Revision)

SAMHSA's National Household Survey on Drug Abuse (NHSDA) is a survey of the civilian, noninstitutionalized population of the United States 12 years old and older. The data are used to determine the prevalence of use of tobacco products, alcohol, illicit substances, and illicit use of prescription drugs. The results are used by SAMHSA, ONDCP, Federal government agencies, and other organizations and researchers to establish policy, direct program activities, and better allocate resources.

For the 2001 NHSDA, additional questions in the following substantive areas are planned: serious mental illness for adults; selected mental disorders for youth (12 to 17 years old); one question regarding state Children's Health Insurance Program (CHIP) coverage for respondents (12 to 19 years old); revised questions on cigarette dependence; questions on marketplace issues and knowledge of state laws regarding marijuana use; questions on smoking “bidis” and “kreteks” (flavored cigarettes); and two questions that use the “item count” methodology to estimate use of specific hard-core drugs. The remaining modular components of the NHSDA questionnaire will remain essentially unchanged except for minor modifications to wording and selective elimination of sufficient questions to allow for the additional burden of the questions listed above.

As in 1999 and 2000, the sample size of the survey for 2001 will be sufficient to permit prevalence estimates for each of the fifty states and the District of Columbia. The total annual burden estimate is 94,945 hours as shown below:

| Number of respondents | Responses per respondent | Average burden per response (in hours) | Total burden (in hours)
Household screener | 241,500 | 1 | 0.083 | 20,045 hrs.
NHSDA | 70,000 | 1 | 1.07 | 74,900
Total |  |  |  | 94,945

Please send comments to Nancy Pearce, SAMHSA Reports Clearance Officer, Parklawn Building, 5600 Fishers Lane, Room 16-105, Rockville, Maryland 20857. Written comments should be received within 60 days of this notice.

Dated: May 5, 2000.
Richard Kopanda,
Executive Officer, SAMHSA.

[FR Doc. 00-11795 Filed 5-10-00; 8:45 am]

BILLING CODE 4162-20-P